DEPARTMENT OF THE INTERIOR

Office of the Secretary

[24xd5141GM, DGM000000.000000, DN18000000]

Proposed Appointments to the National Indian Gaming Commission

AGENCY: Office of the Secretary, Interior.

ACTION: Notice.

SUMMARY: The Indian Gaming Regulatory Act provides for a three-person National Indian Gaming Commission. One member, the Chair, is appointed by the President with the advice and consent of the Senate. Two associate members are appointed by the Secretary of the Interior. Before appointing members, the Secretary is required to provide public notice of a proposed appointment and allow a comment period. Notice is hereby given of the proposed appointment of Jean Hovland and Sharon Avery as associate members of the National Indian Gaming Commission for a term of 3 years.

DATES: Submit comments on or before April 25, 2024.

ADDRESSES: Send comments to the Director, Office of the Executive Secretariat and Regulatory Affairs, U.S. Department of the Interior, 1849 C Street NW, Mail Stop 7328, Washington, DC 20240; or DOIExecSec@ios.doi.gov with NIGC Appointment Comment in the subject line.

FOR FURTHER INFORMATION CONTACT: Mr. Dustin Thomas, National Indian Gaming Commission, c/o Department of the Interior, 1849 C Street NW, Mail Stop 1621, Washington, DC 20240; telephone (202) 632-7003; facsimile (202) 632-7066.

SUPPLEMENTARY INFORMATION: The Indian Gaming Regulatory Act, 25 U.S.C. 2701 et seq., established the National Indian Gaming Commission (Commission), composed of three full-time members. Commission members serve for a term of 3 years. The Chair is appointed by the President with the advice and consent of the Senate. The two associate members are appointed by the Secretary of the Interior. Before appointing an associate member to the Commission, the Secretary is required to “publish in the Federal Register the name and other information the Secretary deems pertinent regarding a nominee for membership on the Commission and . . . allow a period of not less than thirty days for receipt of public comments.” See 25 U.S.C. 2704(b)(2)(B).

The Secretary proposes to appoint Jean Hovland and Sharon Avery as associate members of the Commission for terms of 3 years. Ms. Hovland and Ms. Avery are well qualified to be members of the National Indian Gaming Commission by virtue of their extensive background and experience in a broad spectrum of Native American issues.

Ms. Hovland is an enrolled member of the Flandreau Santee Sioux Tribe of South Dakota. She currently serves as Vice Chair of the National Indian Gaming Commission. Hovland began her three-year term at the agency on January 17, 2021, after being appointed by the Secretary of the Interior. Since joining the Commission, she has worked collaboratively with the Commission to consult with tribes for the promulgation of regulations and to coordinate the agency's regulatory responsibilities with tribal regulatory authorities. She also served as the Director of the NIGC Office of Self-Regulation from May 2021 through July 2023. Ms. Hovland has provided extensive outreach and education about combating human trafficking in the Indian Gaming industry and has devoted much of her time to outreach efforts, meeting with tribal leaders, regulatory authorities, and gaming operations on Indian Lands on the effective regulation of Indian Gaming.

Ms. Hovland served as Commissioner of the Administration for Native Americans and Deputy Assistant Secretary for Native American Affairs at the Department of Health and Human Services (HHS). As Commissioner, Ms. Hovland provides effective oversight of a $57 million annual operating budget to promote self-sufficiency for Native Americans. She provides executive leadership of a diverse staff of 30 employees and four regional training and technical assistant centers. During her time at HHS, Ms. Hovland created a $1 million funding opportunity designed to strengthen internal governance structures and capacity for tribes and tribal organizations. She also reestablished and Chairs the HHS Secretary's Intradepartmental Council on Native American Affairs, comprised of leadership across the Department.

In her role as Deputy Assistant Secretary for Native American Affairs for the Administration for Children and Families (ACF), a large and diverse program office with an $8 billion annual operating budget, over 1700 employees, and 10 regional offices, Ms. Hovland provides expert and culturally appropriate advice to the Assistant Secretary in the formulation of policy views, positions, and strategies affecting Native Americans. She serves as the key liaison and representative of all ACF program and staff offices on behalf of the Assistant Secretary related to tribal and Native American Affairs.

Prior to her appointment at HHS, Ms. Hovland served as senior advisor to the Assistant Secretary for Indian Affairs at the Department of the Interior. Ms. Hovland has also served as the tribal affairs advisor to Senator John Thune for more than 12 years. She played a key role in advocating for legislation at the request of Indian tribes on such issues as agriculture, services for law enforcement and veterans, and quality access to healthcare. She worked to develop legislation, such as the Tribal Law and Order Act of 2010 and the Code Talker Recognition Act of 2008.

Prior to her time in public service, Hovland was CEO of Wanji Native Nations Consultants, which offered training services for Tribal programs and Tribal governments.

Ms. Hovland does not have any financial interests that would make her ineligible to serve on the Commission under 25 U.S.C. 2704(b)(5)(B) or (C).

Ms. Sharon Avery is an enrolled member of the Saginaw Chippewa Tribe of Michigan. She graduated from Michigan State University College of Law with a Juris Doctor degree and a certificate from the Indigenous Law and Policy Center. She has intimate familiarity with issues that impact tribal communities and the desire and willingness to learn more about those issues from those who are directly impacted by them.

Ms. Avery is currently serving as an Associate General Counsel for the National Indian Gaming Commission's Office of General Counsel and has served in this capacity since January 2020. In this role she has gained familiarity with the agency's structure and the important role the agency plays within the tribal gaming industry. She has worked extensively reviewing gaming ordinances, financing agreements, sportsbook agreements, participated in tribal consultations for regulatory changes and worked on management contract reviews.

Prior to joining the National Indian Gaming Commission, Ms. Avery worked in the Legal Department of the Saginaw Chippewa Indian Tribe of Michigan for 10 years. Ms. Avery held several roles while working for the Saginaw Chippewa Indian Tribe of Michigan. She began as an Associate General Counsel, worked her way up to Senior Associate General Counsel and then held the position of General Counsel for Tribal Operations.

During her time working as in-house counsel, she worked on many projects and gained valuable perspective from working for a tribal government. As Associate General Counsel and Senior Associate General Counsel, she reviewed gaming and entertainment contracts, worked with the Department of Justice and tribal departments to implement the Sex Offender Registration and Notification Act requirements, reviewed tribal grants, worked extensively on personnel policies and procedures, reviewed various types of agreements for both the Tribe and the Tribe's enterprises, and drafted and amended tribal codes.

As General Counsel for Tribal Operations, Ms. Avery managed the Tribe's in-house legal department which included developing and overseeing the annual departmental budget, assigning and supervising work product, providing regular updates to the Tribal Council and represented the Tribe on many long-term projects.

In serving the Saginaw Chippewa Indian Tribe of Michigan and the National Indian Gaming Commission, Ms. Avery is most proud of the teamwork she has been a part of and assisting in building the teams that support both organizations.

Ms. Avery does not have any financial interests that would make her ineligible to serve on the Commission under 25 U.S.C. 2704(b)(5)(B) or (C).

Any person wishing to submit comments on the proposed appointments of Jean Hovland and Sharon Avery may submit written comments to the address listed above. Comments must be received by April 25, 2024.

(Authority: 25 U.S.C. 2704(b)(2)(B))

Deb Haaland,
Secretary of the Interior.

[FR Doc. 2024-06519 Filed 3-25-24; 8:45 am]

BILLING CODE 7565-01-P